DEPARTMENT OF AGRICULTURE

Hood/Willamette Resource Advisory Committee (RAC)

AGENCY: Forest Service, USDA

ACTION: Action of meeting.

SUMMARY: The Hood/Willamette Resource Advisory Committee (RAC) will meet on Friday, October 24, 2003. The meeting and field trip is scheduled to begin at 9 a.m. and will conclude at approximately 4:30 p.m. The meeting will be held at the Oregon Community Credit Union; 2880 Chad Drive; Eugene, Oregon; (541) 681-6069. The tentative agenda includes: (1) Finalizing Recommendations on 2004 Projects; (2) Field Trip to 2002 and 2003 Projects; (3) Setting up Dates and Process for 2005 Projects; and (4) Public Forum.

The Public Forum is tentatively scheduled to begin at 9:15 p.m. Time allotted for individual presentations will be limited to 3-4 minutes. Written comments are encouraged, particularly if the material cannot be presented within the time limits for the Public Forum. Written comments may be submitted prior to the October 24th meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: September 24, 2003.
Dallas J. Emch,
Forest Supervisor.

[FR Doc. 03-24839 Filed 9-30-03; 8:45 am]

BILLING CODE 3410-11-M